DEPARTMENT OF HEALTH AND HUMAN SERVICES

Office of the Secretary

Cooperative Agreement To Establish a National Poverty Research Center and Area Poverty Research Centers: Correction

Correction

In notice document 02-17990 appearing on page 46985 in the issue of Wednesday, July 17, 2002, make the following correction:

On page 46985, in the third column, the fourth line should read “(c) Research Agenda”.

[FR Doc. C2-17990 Filed 7-26-02; 8:45 am]

BILLING CODE 1505-01-D